DEPARTMENT OF TRANSPORTATION

Federal Aviation Administration

14 CFR Part 39

[Docket No. FAA-2007-28853; Directorate Identifier 2006-NM-218-AD; Amendment 39-15241; AD 2007-22-05]

RIN 2120-AA64

Airworthiness Directives; Airbus Model A300-600 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

At some locations, the new calculated fatigue life [for the wing to center box assembly] falls below the aircraft Design Service Goal.

The aim of this Airworthiness Directive (AD) is * * * to ensure detection of cracks on the panels and stiffeners at rib No. 1. This situation, if left uncorrected, could affect the structural integrity of the area.

We are issuing this AD to require actions to correct the unsafe condition on these products.

DATES: This AD becomes effective November 28, 2007.

The Director of the Federal Register approved the incorporation by reference of a certain publication listed in this AD as of November 28, 2007.

The Director of the Federal Register approved the incorporation by reference of Airbus A300-600 Airworthiness Limitations Items Document AI/SE-M2/95A.0502/06, Issue 11, dated April 2006, as of October 31, 2007 (72 FR 54536, September 26, 2007).

ADDRESSES: You may examine the AD docket on the Internet at http://dms.dot.gov or in person at the U.S. Department of Transportation, Docket Operations, M-30, West Building Ground Floor, Room W12-140, 1200 New Jersey Avenue, SE., Washington, DC.

FOR FURTHER INFORMATION CONTACT: Tom Stafford, Aerospace Engineer, International Branch, ANM-116, FAA, Transport Airplane Directorate, 1601 Lind Avenue, SW., Renton, Washington 98057-3356; telephone (425) 227-1622; fax (425) 227-1149.

SUPPLEMENTARY INFORMATION:

Discussion

We issued a notice of proposed rulemaking (NPRM) to amend 14 CFR part 39 to include an AD that would apply to the specified products. That NPRM was published in the Federal Register on August 3, 2007 (72 FR 43199). A correction of that NPRM was published in the Federal Register on August 15, 2007 (72 FR 45866). That NPRM proposed to correct an unsafe condition for the specified products. The MCAI states:

During installation of the wing to the centre box junction on the Final Assembly Line, some “taperlocks” fasteners were found non compliant with the specification.

Fatigue tests on samples and calculation performed on non-conform fasteners demonstrated that this defect could lead to decrease the fatigue life of the wing to centre wing box assembly.

At some locations, the new calculated fatigue life falls below the aircraft Design Service Goal.

The aim of this Airworthiness Directive (AD) is to mandate repetitive inspections to ensure detection of cracks on the panels and stiffeners at rib No. 1. This situation, if left uncorrected, could affect the structural integrity of the area.

The corrective action includes contacting Airbus for repair instructions in the event of crack finding. You may obtain further information by examining the MCAI in the AD docket.

Comments

We gave the public the opportunity to participate in developing this AD. We received no comments on the NPRM or on the determination of the cost to the public.

Clarification of Compliance Times

We added “total” to the flight hour compliance times in paragraphs (f)(1)(i)(A), (f)(2)(i)(A), and (f)(3)(i)(A) of the AD. The flight cycle compliance times already specify total flight cycles.

Change of Service Bulletin Appendix Reference

We changed “including” to “excluding” when referring to Appendix 01 of Airbus Service Bulletin A300-53-6154, dated June 20, 2006, in paragraph (h) and in the subparagraphs of paragraph (f) of the AD. Appendix 01 is a reporting form, and this AD does not require reporting.

Conclusion

We reviewed the available data and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect 7 products of U.S. registry. We also estimate that it will take about 79 work-hours per product to comply with the basic requirements of this AD. The average labor rate is $80 per work-hour. Based on these figures, we estimate the cost of this AD to the U.S. operators to be $44,240, or $6,320 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://dms.dot.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-22-05 Airbus: Amendment 39-15241. Docket No. FAA-2007-28853; Directorate Identifier 2006-NM-218-AD.

Effective Date

(a) This airworthiness directive (AD) becomes effective November 28, 2007.

Affected ADs

(b) None.

Applicability

(c) This AD applies to Airbus Model A300-600 series airplanes, manufacturing serial numbers (MSN) 0815 up to MSN 0821 inclusive, certificated in any category.

Subject

(d) Air Transport Association (ATA) of America Code 53: Fuselage.

Reason

(e) The mandatory continuing airworthiness information (MCAI) states:

During installation of the wing to the centre box junction on the Final Assembly Line, some “taperlocks” fasteners were found non compliant with the specification.

Fatigue tests on samples and calculation performed on non-conform fasteners demonstrated that this defect could lead to decrease the fatigue life of the wing to centre wing box assembly.

At some locations, the new calculated fatigue life falls below the aircraft Design Service Goal.

The aim of this Airworthiness Directive (AD) is to mandate repetitive inspections to ensure detection of cracks on the panels and stiffeners at rib No. 1. This situation, if left uncorrected, could affect the structural integrity of the area.

The corrective action includes contacting Airbus for repair instructions in the event of crack finding.

Actions and Compliance

(f) Unless already done, do the following actions.

(1) Action No. 1, for the center wing box:

(i) At the later of the times in paragraphs (f)(1)(i)(A) and (f)(1)(i)(B) of this AD: Do an external ultrasonic inspection for cracking of the taperlocks fasteners of the center wing box, in accordance with the Accomplishment Instructions of Airbus Service Bulletin A300-53-6154, excluding Appendix 01, dated June 20, 2006. If any crack is detected: Before further flight, contact Airbus for repair instructions, and repair.

(A) Before the accumulation of 19,800 total flight cycles or 41,200 total flight hours, whichever occurs first.

(B) Within 3 months after the effective date of this AD.

(ii) Repeat the inspection thereafter at intervals not to exceed 3,300 flight cycles or 6,900 flight hours, whichever occurs first, in accordance with the Accomplishment Instructions of Airbus Service Bulletin A300-53-6154, excluding Appendix 01, dated June 20, 2006.

(iii) The repetitive interval specified in paragraph (f)(1)(ii) of this AD is valid until the threshold of Airbus A300-600 Airworthiness Limitation Items (ALI) Task 571006-02-1 is reached. After reaching this threshold, the ultrasonic inspection is to be done according to Task 571006-02-1, “Special detailed inspection (Ultrasonic) of wing junction at rib 1 horizontal flange of lower T section, between FR40 and FR47 inboard side, LH/RH,” of Airbus A300-600 Airworthiness Limitation Items Document AI/SE-M2/95A.0502/06, Issue 11, dated April 2006.

(2) Action No. 2, for the outer wing box:

(i) At the later of the times in paragraphs (f)(2)(i)(A) and (f)(2)(i)(B) of this AD: Do an external ultrasonic inspection for cracking of the taperlocks fasteners of the outer wing box, in accordance with the Accomplishment Instructions of Airbus Service Bulletin A300-53-6154, excluding Appendix 01, dated June 20, 2006. If any crack is detected: Before further flight, contact Airbus for repair instructions, and repair.

(A) Before the accumulation of 15,200 total flight cycles or 31,700 total flight hours, whichever occurs first.

(B) Within 3 months after the effective date of this AD.

(ii) Repeat the inspection thereafter at intervals not to exceed 3,700 flight cycles or 7,700 flight hours, whichever occurs first, in accordance with the Accomplishment Instructions of Airbus Service Bulletin A300-53-6154, excluding Appendix 01, dated June 20, 2006.

(iii) The repetitive interval specified in paragraph (f)(2)(ii) of this AD is valid until reaching the threshold of Airbus A300-600 Airworthiness Limitation Items (ALI) Task 571022-01-2, “Special detailed inspection (Ultrasonic) of wing-fuselage lower skin splice at rib 1 (wing side).” After reaching this threshold, the ultrasonic inspection is to be done according to Task 571022-01-2 of Airbus A300-600 Airworthiness Limitation Items Document AI/SE-M2/95A.0502/06, Issue 11, dated April 2006.

(3) Action No. 3, for the outer wing box:

(i) At the later of the times in paragraphs (f)(3)(i)(A) and (f)(3)(i)(B) of this AD: Do an internal x-ray inspection for cracking of the taperlocks fasteners of the outer wing box, in accordance with the Accomplishment Instructions of Airbus Service Bulletin A300-53-6154, excluding Appendix 01, dated June 20, 2006. If any crack is detected: Before further flight, contact Airbus for repair instructions, and repair.

(A) Before the accumulation of 20,900 total flight cycles or 43,400 total flight hours, whichever occurs first.

(B) Within 3 months after the effective date of this AD.

(ii) Repeat the inspection thereafter at intervals not to exceed 1,800 flight cycles or 3,700 flight hours, whichever occurs first, in accordance with the Accomplishment Instructions of Airbus Service Bulletin A300-53-6154, excluding Appendix 01, dated June 20, 2006.

(iii) The repetitive interval specified in paragraph (f)(3)(ii) of this AD is valid until reaching the threshold of Airbus A300-600 Airworthiness Limitation Items (ALI) Task 571022-02-2, “Special detailed inspection (XRAY) of wing-fuselage lower skin splice at rib 1 (wing side).” After reaching this threshold, the x-ray inspection is to be done according to Task 571022-02-2 of Airbus A300-600 Airworthiness Limitation Items Document AI/SE-M2/95A.0502/06, Issue 11, dated April 2006.

FAA AD Differences

Note: This AD differs from the MCAI and/or service information as follows: No differences.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Tom Stafford, Aerospace Engineer, International Branch, ANM-116, Transport Airplane Directorate, FAA, 1601 Lind Avenue, SW., Renton, Washington 98057-3356; telephone (425) 227-1622; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI EASA Airworthiness Directive 2006-0257, dated August 24, 2006; Airbus Service Bulletin A300-53-6154, excluding Appendix 01, dated June 20, 2006; and Airbus A300-600 Airworthiness Limitations Items Document AI/SE-M2/95A.0502/06, Issue 11, dated April 2006; for related information.

Material Incorporated by Reference

(i) You must use the service information specified in Table 1 of this AD to do the actions required by this AD, unless the AD specifies otherwise.

(1) The Director of the Federal Register approved the incorporation by reference of Airbus Service Bulletin A300-53-6154, excluding Appendix 01, dated June 20, 2006, under 5 U.S.C. 552(a) and 1 CFR part 51.

(2) The Director of the Federal Register previously approved the incorporation by reference of Airbus A300-600 Airworthiness Limitations Items Document AI/SE-M2/95A.0502/06, Issue 11, dated April 2006, on October 31, 2007 (72 FR 54536, September 26, 2007).

(3) For service information identified in this AD, contact Airbus, 1 Rond Point Maurice Bellonte, 31707 Blagnac Cedex, France.

(4) You may review copies at the FAA, Transport Airplane Directorate, 1601 Lind Avenue, SW., Renton, Washington; or at the National Archives and Records Administration (NARA). For information on the availability of this material at NARA, call (202) 741-6030, or go to: http://www.archives.gov/federal-register/cfr/ibr-locations.html.

Table 1.—Material Incorporated by Reference
Service information | Revision level | Date
Airbus Service Bulletin A300-53-6154, excluding Appendix 01 | Original | June 20, 2006.
Airbus A300-600 Airworthiness Limitations Items Document AI/SE-M2/95A.0502/06 | Issue 11 | April 2006.

Issued in Renton, Washington, on October 12, 2007.
Stephen P. Boyd,
Assistant Manager, Transport Airplane Directorate, Aircraft Certification Service.

[FR Doc. E7-20815 Filed 10-23-07; 8:45 am]

BILLING CODE 4910-13-P